TENNESSEE VALLEY AUTHORITY

Sunshine Act Meeting

Agency Holding the Meeting: Tennessee Valley Authority (Meeting No. 1515).

Time and Date: 9 a.m. (CST), January 27, 2000.

Place: TVA Environmental Research Center Auditorium, Muscle Shoals, Alabama.

Status: Open.

Agenda

Approval of minutes of meeting held on December 8, 1999.

New Business

B—Purchase Award

B1. Supplement to contract with U.S. Fleet Leasing for fleet maintenance services.

B2. Cooperative/contract agreement with Bicentennial Volunteers, Incorporated, for volunteer, special projects, and staff augmentation services.

C—Energy

C1. Supplement to Contract No. 99PPW-235218-002 with ABB Environmental Systems to design, manufacture, and deliver selective catalytic reduction process equipment for any TVA fossil plant.

C2. Supplement to Contract No. 98P6D-195379 with General Electric Company for the manufacture and turnkey installation of new simple cycle dual fuel combustion turbine generating units.

E—Real Property

E1. Public auction sale of approximately 0.23 acre of land located on Cherokee Lake in Grainger County, Tennessee (Tract No. XCK-581) to resolve an existing house encroachment on one lot and to provide adequate area on a second adjoining lot to permit home construction.

E2. Grant of permanent easement, without charge, except for payment of TVA's administrative costs, to the State of Tennessee for highway improvement purposes, affecting 5 acres of land on Watts Bar Lake in Rhea County, Tennessee (Tract No. XTWBR-141H).

E3. Grant of a permanent recreation easement, without charge, except for payment of TVA's administrative costs, to the City of Clinton, Tennessee, affecting approximately 3.9 acres of land on Melton Hill Lake in Anderson County, Tennessee (Tract No. XTMHR-19RE).

E4. Grants of two permanent easements, without charge, except for payment of TVA's administrative costs, to Notla Water Authority for a water treatment facility and raw water intake site, affecting approximately 21 acres of land located on Nottely Lake in Union County, Georgia (Tract No. XTNLR-34WP and XTNLR-35E).

E5. Sale of noncommercial, nonexclusive permanent easements to Mark Margetts (Tract No. XTELR-211RE), Oscar Lidstrom (Tract No. XTELR-213RE), and Michael Campbell (Tract No. XTELR-214RE) for construction and maintenance of recreational water-use facilities, affecting approximately 0.34 acre of Tellico Lake shoreline in Loudon and Monroe Counties, Tennessee.

E6. Grant of a permanent easement, without charge, except for TVA's administrative costs, for the upgrade of a wastewater treatment plant, to Jefferson City, Tennessee, affecting approximately 1.3 acres of land on Cherokee Lake in Jefferson County, Tennessee (Tract No. XTCK-64SP).

E7. Public auction sale of approximately 3.4 acres of a portion of the Oxford, Mississippi, primary substation property located in Lafayette County, Mississippi (Tract No. XOXPSS-1).

E8. Public auction sale of approximately 3.07 acres of TVA land (the site of the former Mayfield, Kentucky, Area Operating Headquarters) located in Graves County, Kentucky (Tract No. XMAH-1).

F—Unclassified

F1. Filing of condemnation cases to acquire permanent easements and rights-of-way for electric transmission lines at the Shelby-Covington Tap to Brighton Transmission Line, in Tipton County, Tennessee, and Murfreesboro-Smyrna No. 2 Transmission Line, in Rutherford County, Tennessee.

For more information: Please call TVA Public Relations at (423) 632-6000, Knoxville, Tennessee. Information is also available at TVA's Washington Office (202) 898-2999.

Dated: January 20, 2000.
Edward S. Christenbury,
General Counsel and Secretary.

[FR Doc. 00-1760 Filed 1-24-00; 11:00 am]

BILLING CODE 8120-08-M